DEPARTMENT OF AGRICULTURE

Rural Utilities Service

[Docket No. RUS-23-TELECOM-0015]

Notice of an Extension to an Existing Information Collection

AGENCY: Rural Utilities Service, USDA.

ACTION: Notice and request for comment.

SUMMARY: In accordance with the Paperwork Reduction Act of 1995, this notice announces the Rural Utilities Service's (RUS or Agency), an agency within the United States Department of Agriculture, Rural Development, intention to request an extension to an existing information collection package for the Special Servicing of Telecommunications Programs Loans for Financially Distressed Borrowers. The Telecommunications Infrastructure Loan Program, Rural Broadband Program, Distance Learning and Telemedicine Program, and the Rural eConnectivity Program (hereinafter collectively referred to as the “RUS Telecommunications Programs”) provide loan funding to build and expand broadband and telecommunications services in rural communities.

DATES: Comments on this notice must be received by December 19, 2023 to be assured of consideration.

FOR FURTHER INFORMATION CONTACT: Pamela Bennett, Regulations Management Division, Innovation Center, U.S. Department of Agriculture. Email: pamela.bennett@usda.gov. Telephone: (202) 720-9639.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection that RUS will submit to OMB for regular approval.

Comments are invited on: (a) Whether the proposed collection of information is necessary for the proper performance of the functions of the Rural Business-Cooperative Service, including whether the information will have practical utility; (b) the accuracy of the Rural Business-Cooperative Service's estimate of the burden of the proposed collection of information including validity of the methodology and assumptions used; (c) ways to enhance the quality, utility and clarity of the information to be collected; and (d) ways to minimize the burden of the collection of information on those who are to respond, including through the use of appropriate automated, electronic, mechanical, or other technological collection techniques or other forms of information technology.

Comments may be sent by the Federal eRulemaking Portal: Go to https://www.regulations.gov and, in the “Search” box, type in the Docket No. RUS-23-TELECOM-0015. A link to the Notice will appear. You may submit a comment here by selecting the “Comment” button or you can access the “Docket” tab, select the “Notice,” and go to the “Browse & Comment on Documents” Tab. Here you may view comments that have been submitted as well as submit a comment. To submit a comment, select the “Comment” button, complete the required information, and select the “Submit Comment” button at the bottom. Information on using Regulations.gov, including instructions for accessing documents, submitting comments, and viewing the docket after the close of the comment period, is available through the site's “FAQ” link at the bottom.

A Federal agency may not conduct or sponsor, and a person is not required to respond to, nor shall a person be subject to a penalty for failure to comply with a collection of information subject to the requirements of the Paperwork Reduction Act unless that collection of information displays a currently valid OMB Control Number. Data furnished by the applicants will be used to determine eligibility for program benefits. Furnishing the data is voluntary; however, failure to provide data could result in program benefits being withheld or denied.

Title: Special Servicing of Telecommunications Programs Loans for Financially Distressed Borrowers.

OMB Control Number: 0572-0153.

Type of Request: Extension to an existing information collection.

Abstract: The RUS Telecommunications Programs currently take servicing actions on approximately 10-12 projects each year. These actions are taken in accordance with 7 CFR part 1752 which outlines the general policies and procedures for servicing actions associated with the RUS Telecommunications Programs Borrowers in financial distress. The reporting burden covered by this collection from the borrower may include but is not limited to, a request and explanation for servicing action, various financial, subscriber, and organizational information, as well as other documents and information that may be relevant as determined by RUS. The collection of this information will help the Agency streamline and expedite servicing actions, improve the Government's recovery on such loans, and improve overall customer service. Since most RUS Telecommunications Program borrowers are utilities, faster resolution of servicing actions will ensure that rural Americans continue to receive service.

Estimate of Burden: The public reporting burden for this collection of information is estimated to average 5 hours per response.

Respondents: Respondents for this data may include not-for-profit institutions; businesses or other for-profit.

Estimated Number of Respondents: 5.

Estimated Number of Responses per Respondent: 27.4.

Estimated Number of Responses: 137.

Estimated Total Annual Burden on Respondents: 694.50 hours.

Copies of this information collection can be obtained from Pamela Bennett, Rural Development Innovation Center, Regulations Management Division, at (202) 720-9639. All responses to this notice will be summarized and included in the request for OMB approval. All comments will also become a matter of public record.

Andrew Berke,
Administrator, Rural Utilities Service.

[FR Doc. 2023-23243 Filed 10-19-23; 8:45 am]

BILLING CODE 3410-15-P